NATIONAL AERONAUTICS AND SPACE ADMINISTRATION

[Notice 01-076]

Notice of Prospective Patent License

AGENCY: National Aeronautics and Space Administration.

ACTION: Notice of Prospective Patent License.

SUMMARY: NASA hereby gives notice that Bioque Technologies, Inc., of Blacksburg, VA, has applied for a partially exclusive license to practice the invention described and claimed in U.S. Patent No. 6,125,297, entitled “Body Fluids Monitor,” which is assigned to the United States of America as represented by the Administrator of the National Aeronautics and Space Administration. Written objections to the prospective grant of a license should be sent to Johnson Space Center.

DATES: Responses to this notice must be received by August 17, 2001.

FOR FURTHER INFORMATION CONTACT: James Cate, Patent Attorney, NASA Johnson Space Center, Mail Stop HA, Houston, TX 77058-8452; telephone (281) 483-1001.

Dated: June 11, 2001.
Edward A. Frankle,
General Counsel.

[FR Doc. 01-15205 Filed 6-15-01; 8:45 am]

BILLING CODE 7510-01-P